DEPARTMENT OF COMMERCE

International Trade Administration

[A-552-802]

Frozen Warmwater Shrimp From the Socialist Republic of Vietnam: Amended Final Results and Partial Final Rescission of Antidumping Duty Administrative Review

AGENCY: Import Administration, International Trade Administration, Department of Commerce.

DATES: Effective Date: October 18, 2012.

FOR FURTHER INFORMATION CONTACT: Toni Dach, AD/CVD Operations, Office 9, Import Administration, International Trade Administration, U.S. Department of Commerce, 14th Street and Constitution Avenue NW., Washington, DC 20230; telephone: (202) 482-1655.

SUPPLEMENTARY INFORMATION:

Background

On September 11, 2012, the Department of Commerce (“Department”) published in the Federal Register the final results of the sixth administrative review of the antidumping duty order of frozen warmwater shrimp from the Socialist Republic of Vietnam (“Vietnam”).¹

¹ See Certain Frozen Warmwater Shrimp from the Socialist Republic of Vietnam: Final Results and Final Partial Rescission of Antidumping Duty Administrative Review, 77 FR 55800 (September 11, 2012) (“Final Results”).

On September 17, 2012, the Minh Phu Group,² Phu Cuong Jostoco Seafood Corporation, Thuan Phuoc Seafoods and Trading Corporation, and UTXI Aquatic Products Processing Corporation, collectively referred to here as “Vietnamese Respondents,” filed timely allegations that the Department made various ministerial errors in the Final Results and requested, pursuant to 19 CFR 351.224, that the Department correct the alleged ministerial errors. No other parties in this proceeding submitted comments on the Department's final margin calculations.

² Minh Phu Seafood Corporation, Minh Qui Seafood Co., Ltd. and Minh Phat Seafood Co., Ltd.

Based upon our analysis of the comments and allegations of ministerial errors, we made changes to the antidumping duty margin calculation for Minh Phu Group. Additionally, we made corrections to the exporter company names for the following: (1) UTXI Aquatic Products Processing Corporation; (2) Thuan Phuoc Seafoods and Trading Corporation; and (3) Phu Cuong Jostoco Seafood Corporation. Furthermore, as a result of correcting the clerical errors in the antidumping margin calculation for Minh Phu Group, the antidumping margin for the separate rate respondents was also revised because the separate rate margin was derived from the simple average of the margins of the Minh Phu Group and the Nha Trang Group.³

³ Nha Trang Seaproduct Company, NT Seafoods Corporation, Nhatrang Seafoods—F89 Joint Stock Company, and NTSF Seafoods Joint Stock Company.

In the Preliminary Results,⁴ pursuant to the withdrawal of the request for review of BIM Seafood Joint Stock Company (“BIM Seafood”), the Department preliminarily rescinded this review with respect to BIM Seafood. Subsequent to the Final Results, the Department discovered that we had inadvertently failed to include the final rescission for BIM Seafood in the Final Results. Therefore, we are also rescinding this review with respect to BIM Seafood.

⁴ See Certain Frozen Warmwater Shrimp From the Socialist Republic of Vietnam: Preliminary Results of Administrative Review, 77 FR 13547 (March 7, 2012) (“Preliminary Results”).

Scope of the Order

For a full description of the products covered by the antidumping duty order on certain frozen warmwater shrimp from Vietnam, see Memorandum to Paul Piquado, from Christian Marsh, regarding “Sixth Antidumping Administrative Review of Frozen Warmwater Shrimp from the Socialist Republic of Vietnam: Ministerial Error and Correction Memorandum,” dated concurrently with this notice (“Ministerial Errors and Correction Memo”).

Amended Final Results

The Act defines “ministerial error” as including “errors in addition, subtraction, or other arithmetic function, clerical errors resulting from inaccurate copying, duplication, or the like, and any other type of unintentional error which the administering authority considers ministerial.” ⁵ After analyzing the Vietnamese Respondents' comments, we have determined, in accordance with section 751(h) of the Act and 19 CFR 351.224(e), that we made certain ministerial errors in our calculations for the final results with respect to our calculation of freight for the Minh Phu Group and certain typographical errors for various exporter company names.⁶

⁵ See section 751(h) of the Tariff Act of 1930, as amended (“the Act”).

⁶ See Ministerial Errors and Correction Memo.

Because we have revised the antidumping duty margin for Minh Phu Group, we are also revising the antidumping duty margin for the separate rate respondents because the separate rate margin for those companies was calculated as the simple average margin for Minh Phu Group and Nha Trang Group. In accordance with section 751(h) of the Act, we are amending the final results of the administrative review of certain frozen warmwater shrimp from Vietnam.

The dumping margins for the period of review for these amended final results are as follows:

Exporter | Margin (percent)
Minh Phu Group: | 0.53
Minh Phat Seafood Co., Ltd. aka |
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd.
Minh Phu Seafood Pte aka
Minh Phat aka
Minh Qui
Minh Phu Hau Giang Seafood Co., Ltd.
Nha Trang Seafoods Group: | 1.23
Nha Trang Seaproduct Company (“Nha Trang Seafoods”) aka
Nha Trang Seafoods aka
Nha Trang Seafood Product Company aka
Nha Trang Seaproduct Company Nha Trang Seafoods aka
NT Seafoods Corporation (“NT Seafoods”) aka
Nha Trang Seafoods—F.89 Joint Stock Company (“Nha Trang Seafoods—F.89”) aka
NTSF Seafoods Joint Stock Company (“NTSF Seafoods”)
Amanda Foods (Vietnam) Limited (“Amanda Foods”) | 0.88
Bac Lieu Fisheries Company Limited aka | 0.88
Bac Lieu Fisheries Company Limited (“Bac Lieu”) aka
Bac Lieu Fisheries Joint Stock Company aka
Bac Lieu Fisheries Limited Company aka
Bac Lieu Fisheries Company Limited aka
Bac Lieu Fis
Camau Frozen Seafood Processing Import Export Corporation (“CAMIMEX”) aka | 0.88
Camimex aka
Camau Seafood Factory No. 4 aka
Camau Seafood Factory No. 5 aka
Camau Frozen Seafood Processing Import & Export aka
Camau Frozen Seafood Processing Import Export Corp. (CAMIMEX-FAC 25) aka
Frozen Factory No. 4 aka
Camau Frozen Seafood Processing Import Export Corporation (“CAMIMEX”) aka
Camimex aka
Camau Frozen Seafood Processing Import Export Corporation
C.P. Vietnam Livestock Company Limited aka | 0.88
C.P. Vietnam Livestock Corporation (“C.P. Vietnam”) aka
C.P. Vietnam Livestock Corporation aka
C.P. Vietnam Livestock Co. Ltd.
Cadovimex Seafood Import-Export and Processing Joint Stock Company (“CADOVIMEX-VIETNAM”) aka | 0.88
Cadovimex Seafood Import-Export and Processing Joint Stock Company aka
Cadovimex-Vietnam aka
Cadovimex aka
Cai Doi Vam Seafood Import-Export Company aka
Cai Doi Vam Seafood Import-Export Company (“Cadovimex”) aka
Cai Doi Vam Seafood Import-Export Company (Cadovimex) aka
Cai Doi Vam Seafood aka
Cai Doi Vam Seafood Im-Ex Company (Cadovimex) aka
Cai Doi Vam Seafood Processing Factory aka
Caidoivam Seafood Company (Cadovimex) aka
Caidoivam Seafood Im-Ex Co.
Cafatex Fishery Joint Stock Corporation (“Cafatex Corp.”) aka | 0.88
Cafatex Fishery Joint Stock Corporation (“CAFATEX CORP.”) aka
Cantho Animal Fisheries Product Processing Export Enterprise (Cafatex) aka
Cafatex aka
Cafatex Vietnam aka
Xi Nghiep Che Bien Thuy Suc San Xuat Kau Cantho aka
Cas aka
Cas Branch aka
Cafatex Saigon aka
Cafatex Fishery Joint Stock Corporation aka
Cafatex Corporation aka
Taydo Seafood Enterprise aka
Cafatex Corp. aka
Cafatex Corporation
Cam Ranh Seafoods Processing Enterprise Company (“Camranh Seafoods”) aka | 0.88
Camranh Seafoods
Can Tho Agricultural and Animal Products Import Export Company (“CATACO”) aka | 0.88
CATACO Sole Member Limited Liability Company aka
Can Tho Agricultural and Animal Product Import Export Company (“CATACO”) aka
Can Tho Agricultural Products aka
CATACO aka
Can Tho Agricultural and Animal Products Imex Company
Can Tho Import Export Fishery Limited Company (“CAFISH”) | 0.88
Coastal Fishery Development aka | 0.88
Coastal Fisheries Development Corporation (“Cofidec”) aka
Coastal Fisheries Development Corporation (Cofidec) aka
COFIDEC aka
Coastal Fisheries Development Corporation aka
Coastal Fisheries Development Co. aka
Coastal Fisheries Development Corp.
Cuulong Seaproducts Company (“Cuu Long Seapro”) aka | 0.88
Cuu Long Seaproducts Limited (“Cuulong Seapro”) aka
Cuulong Seapro aka
Cuulong Seaproducts Company aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company
Danang Seaproducts Import Export Corporation (“Seaprodex Danang”) aka | 0.88
Danang Seaproducts Import Export Corporation aka
Danang Seaproduct Import-Export Corporation aka
Danang Seaproducts Import Export aka
Danang Sea Products Import Export Corporation aka
Tho Quang Seafood Processing & Export Company aka
Seaprodex Danang aka
Tho Quang Seafood Processing and Export Company aka
Tho Quang aka
Tho Quang Co.
Gallant Ocean (Vietnam) Co., Ltd. aka | 0.88
Gallant Ocean (Quang Ngai) Co. Ltd.
Viet I-Mei Frozen Foods Co., Ltd. aka | 0.88
Viet I-Mei Frozen Foods Co. Ltd. aka
Viet I-Mei aka
Grobest & I-Mei Industrial (Vietnam) Co., Ltd. aka
Grobest & I-Mei Industry (Vietnam) Co., Ltd. aka
Grobest
Investment Commerce Fisheries Corporation (“Incomfish”) aka | 0.88
Incomfish aka
Investment Commerce Fisheries Corp. aka
Incomfish Corp. aka
Incomfish Corporation aka
Investment Commerce Fisheries aka
Investment Commerce Fisheries Corporation aka
Incomfish Corporation
Kim Anh Company Limited (“Kim Anh”) | 0.88
Minh Hai Export Frozen Seafood Processing Joint Stock Company aka | 0.88
Minh Hai Jostoco aka
Minh Hai Export Frozen Seafood Processing Joint-Stock Company (“Minh Hai Jostoco”) aka
Minh Hai Export Frozen Seafood Processing Joint Stock Company (“Minh Hai Jostoco”) aka
Minh Hai Export Frozen Seafood Processing Joint-Stock Company aka
Minh Hai Joint Stock Seafood Processing Joint-Stock Company aka
Minh Hai Export Frozen Seafood Processing Joint-Stock Co. aka
Minh-Hai Export Frozen Seafood Processing Joint-Stock Company
Minh Hai Joint-Stock Seafoods Processing Company (“Seaprodex Minh Hai”) aka | 0.88
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai
Minh Hai Sea Products Import Export Company (“Seaprimex Co”) aka | 0.88
Ca Mau Seafood Joint Stock Company (“SEAPRIMEXCO”) aka
Seaprimexco Vietnam aka
Seaprimexco aka
Seaprimex Co aka
Ca Mau Seafood Joint Stock Company (“Seaprimexco”) aka
Minh Hai Seaproducts Import Export Corporation aka
Seaprimexco aka
Minh Hai Seaproducts Co Ltd. (Seaprimexco) aka
Ca Mau Seafood Joint Stock Company (“Seaprimexco Vietnam”)
Ngoc Sinh Private Enterprise aka | 0.88
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise)
Ngoc Tri Seafood Joint Stock Company | 0.88
Nhat Duc Co., Ltd. aka | 0.88
Nhat Duc Co., Ltd. (“Nhat Duc”)
Nha Trang Fisheries Joint Stock Company (“Nha Trang Fisco”) aka | 0.88
Nha Trang Fisheries Joint Stock Company aka
Nhatrang Fisheries Joint Stock Company aka
Nha Trang Fisco aka
Nhatrang Fisco aka
Nha Trang Fisheries Joint Stock Company (“Nha Trang Fisco”) aka
Nha Trang Fisheries, Joint Stock aka
Nha Trang Fishereies Joint Stock Company (Nha Trang Fisco)
Phu Cuong Seafood Processing and Import-Export Co., Ltd. aka | 0.88
Phu Cuong Seafood Processing and Import Export Company Limited aka
Phu Cuong Jostoco Corp. aka
Phu Cuong Jostoco Seafood Corporation
Phuong Nam Co., Ltd. (“Phuong Nam”) aka | 0.88
Western Seafood Processing and Exporting Factory (“Western Seafood”) aka
Phuong Nam Foodstuff Corp. aka
Phuong Nam Co. Ltd.
Sao Ta Foods Joint Stock Company (“Fimex VN”) aka | 0.88
Sao Ta Foods Joint Stock Company aka
Fimex VN aka
Sao Ta Seafood Factory aka
Saota Seafood Factory
Soc Trang Aquatic Products and General Import Export Company (“Stapimex”) aka | 0.88
Soc Trang Seafood Joint Stock Company (“Stapimex”) aka
Soc Trang Seafood Joint Stock Company aka
Soc Trang Aquatic Products and General Import Export Company aka
Stapimex aka
Soc Trang Aquatic Products and General Import Export Company-(Stapimex) aka
Stapimex Soc Trans Aquatic Products and General Import Export Company aka
Stapmex
Thuan Phuoc Seafoods and Trading Corporation aka | 0.88
Thuan Phuoc Corp. aka
Frozen Seafoods Factory No. 32 aka
Seafoods and Foodstuff Factory aka
My Son Seafoods Factory aka
Seafoods and Foodstuff Factory
UTXI Aquatic Products Processing Company aka | 0.88
UT XI Aquatic Products Processing Company aka
UT-XI Aquatic Products Processing Company aka
UTXI aka
UTXI Co. Ltd. aka
Khanh Loi Seafood Factory aka
Hoang Phuong Seafood Factory aka
Hoang Phong Seafood Factory aka
UTXI Aquatic Products Processing Corporation (“UTXICO”) aka
UTXI Aquatic Products Processing Corporation aka
UTXICO
Viet Foods Co., Ltd. aka | 0.88
Nam Hai Foodstuff and Export Company Ltd.
Viet Hai Seafood Co., Ltd. aka | 0.88
Vietnam Fish One Co., Ltd. (“Fish One”) aka
Viet Hai Seafoods Company Ltd. (“Vietnam Fish One Co. Ltd.”)
Vietnam Clean Seafood Corporation aka | 0.88
VINA Cleanfood
Vietnam-wide Entity | 25.76

Rescission of Review, In Part

In the Preliminary Results, the Department preliminarily rescinded this review with respect to BIM Seafood because Domestic Producers ⁷ withdrew their request for review of BIM Seafood.⁸ Pursuant to 19 CFR 351.213(d)(1), the Department will rescind an administrative review, in whole or in part, if the party that requested the review withdraws its request within 90 days of the date of publication of the notice of initiation of the requested review. Therefore, as the withdrawal of the request for review of BIM Seafood was timely, we are rescinding this review with respect to BIM Seafood.

⁷ The Domestic Producers are the Ad Hoc Shrimp Trade Action Committee members: Nancy Edens; Papa Rod, Inc.; Carolina Seafoods; Bosarge Boats, Inc.; Knight's Seafood Inc.; Big Grapes, Inc.; Versaggi Shrimp Co.; and Craig Wallis.

⁸ See Preliminary Results, 77 FR at 13548.

These amended final results and notice are issued and published in accordance with sections 751(h), and 777(i)(1) of the Act, and 19 CFR 351.224.

Dated: October 5, 2012.
Paul Piquado,
Assistant Secretary for Import Administration.

[FR Doc. 2012-25660 Filed 10-17-12; 8:45 am]

BILLING CODE 3510-DS-P